OVERSEAS PRIVATE INVESTMENT CORPORATION

Sunshine Act Meeting Notice

TIME AND DATE: Thursday, March 17, 2016, 2 p.m. (Open Portion) 2:15 p.m. (Closed Portion).

PLACE: Offices of the Corporation, Twelfth Floor Board Room,1100 New York Avenue NW., Washington, DC.

STATUS: Meeting OPEN to the Public from 2 p.m. to 2:15 p.m. Closed portion will commence at 2:15 p.m. (approx.)

MATTERS TO BE CONSIDERED:

1. President's Report

2. Confirmation—Tracey Webb

3. Minutes of the Open Session of the December 10, 2015 Board of Directors Meeting

FURTHER MATTERS TO BE CONSIDERED: (Closed to the Public 2:15 p.m.):

1. Finance Project—Indonesia

2. Finance Project—India

3. Finance Project—India

4. Finance Project—Guinea

5. Finance Project—Cambodia

6. Finance Project—Cambodia

7. Finance Project—Global

8. Minutes of the Closed Session of the December 19, 2015 Board of Directors Meeting

9. Formation of a Risk Committee of the Board

10. Reports

11. Pending Projects

CONTACT PERSON FOR MORE INFORMATION: Information on the meeting may be obtained from Catherine F. I. Andrade at (202) 336-8768, or via email at Catherine.Andrade@opic.gov.

Dated: February 25, 2016.
Catherine F. I. Andrade,
Corporate Secretary, Overseas Private Investment Corporation.

[FR Doc. 2016-04476 Filed 2-25-16; 4:15 pm]

BILLING CODE 3210-01-P